NUCLEAR REGULATORY COMMISSION

Documents Containing Reporting or Recordkeeping Requirements: Office of Management and Budget (OMB) Review

AGENCY: Nuclear Regulatory Commission (NRC)

ACTION: Notice of the OMB review of information collection and solicitation of public comment.

SUMMARY: The NRC has recently submitted to OMB for review the following proposal for the collection of information under the provisions of Paperwork Reduction Act of 1995 (44 U.S.C. Chapter 35).

1. Type of submission, new, revision, or extension: Revision.

2. The title of the information collection: Proposed Rule, 10 CFR part 50, Decommissioning Trust Provisions.

3. The form number if applicable: Not applicable.

4. How often the collection is required: Written notification to the NRC is required when a licensee needs to materially amend its trust agreement to make it consistent with the proposed rule and guidance, or when a license transfer is planned, or whenever a licensee intends to make a disbursement or payment (other than for ordinary administrative expenses) from the trust, escrow account, Government fund, or other account.

5. Who will be required or asked to report: Part 50 licensees.

6. An estimate of the number of responses: 166 responses (Approximately 110 licensees would need to revise their trust agreements, approximately 55 will make material changes to its trust agreement and 1 licensee will make an out of the ordinary disbursement.

7. The estimated number of annual respondents: Approximately 110 licensees per year.

8. An estimate of the total number of hours needed annually to complete the requirement or request: Approximately 3,788 hours

9. An indication of whether Section 3507(d), Pub. L. 104-13 applies: Applicable.

10. Abstract: The NRC is proposing to amend its regulations on decommissioning trust agreements to require that the trust provisions contain general terms and conditions that the NRC believes are required to ensure that funds in the trusts will be available for their intended purpose. The proposed amendment would require that the trust should be an external trust fund in the United States, established pursuant to a written agreement and with an entity that is a State or Federal government agency or whose operations are regulated by a State or Federal agency. The amendment would also require a licensee to notify the NRC in writing when it proposes to materially amend its agreement and when a licensee intends to make a disbursement or payment (other than payment of ordinary administrative expenses). As an accompaniment to this rulemaking, the NRC intends to update Regulatory Guide 1.159, “Assuring the Availability of Funds for Decommissioning Nuclear Reactors,” to include sample trust fund language, terms, and conditions.

Submit, by June 29, 2001, comments that address the following questions:

1. Is the proposed collection of information necessary for the NRC to properly perform its functions? Does the information have practical utility?

2. Is the burden estimate accurate?

3. Is there a way to enhance the quality, utility, and clarity of the information to be collected?

4. How can the burden of information be minimized, including the use of automated collection techniques or other forms of information technology?

A copy of the submittal may be viewed free of charge at the NRC Public Document Room, One White Flint North, 11555 Rockville Pike, Room O-1 F23, Rockville, MD 20852. The proposed rule indicated in “The title of the information collection” is or has been published in the Federal Register within several days of the publication date of this Federal Register Notice. Instructions for accessing the electronic OMB clearance package for the rulemaking have been appended to the electronic rulemaking. Members of the public may access the electronic OMB clearance package by following the directions for electronic access provided in the preamble to the titled rulemaking.

Comments and questions should be directed to the OMB reviewer by June 29, 2001; Amy Farrell, Office of Information and Regulatory Affairs (3150-0011), NEOB-10202, Office of Management and Budget, Washington, DC 20503.

Comments can also be submitted by telephone at (202) 395-7318.

The NRC Clearance Officer is Brenda Jo. Shelton, (301) 415-7233.

Dated at Rockville, Maryland, this 23rd day of May, 2001.
For the Nuclear Regulatory Commission.
Brenda Jo. Shelton,
NRC Clearance Officer, Office of the Chief Information Officer.

[FR Doc. 01-13491 Filed 5-29-01; 8:45 am]

BILLING CODE 7590-01-P